DEPARTMENT OF AGRICULTURE

Chloride Bush Project, Idaho Panhandle National Forests, Bonner County, Idaho

AGENCY: Forest Service, USDA.

ACTION: Notice of intent to prepare an environmental impact statement.

SUMMARY: The USDA Forest Service will prepare an environmental impact statement (EIS) to document and disclose the potential environmental effects of proposed activities within the Gold Creek watershed on the Sandpoint Ranger District, Idaho Panhandle National Forests. The watershed is located about 25 miles south of Sandpoint, Idaho, near the town of Lakeview.

The proposal was designed using science from broad scale assessments including the Interior Columbia Basin Ecosystem Management Project. The proposal is intended to improve the health and productivity of aquatic and terrestrial habitats, and provide for human uses and values by: (1) Reducing road densities and sediment risks from roads and trails, (2) restoring desired forest cover, structure, pattern and species composition across the landscape where they are outside natural or accepted ranges, (3) maintaining or improving stands where desired species are being crowded out, or are declining from competition, (4) promoting the long-term persistence and stability of wildlife habitat diversity, (5) reducing the level of forest fuels and the risk of catastrophic wildfire, (6) providing motorized recreation opportunities while protecting resource values such as wildlife and water, and (7) producing timber as a byproduct of ecosystem restoration and maintenance.

Activities would include: (1) Selective cutting where opportunities exist to maintain or improve stands where desired species are being crowded out, or are declining from competition, (2) regenerating stands where widespread mortality is being caused by insects and disease and replanting them with longer lived seral species, (3) burning to reduce fuels, improve growing conditions, and improve forage for wildlife, (4) constructing several temporary spur roads to facilitate vegetation management activities, (5) decommissioning unneeded road segments, (6) placing a system road into storage, (7) converting two existing roads to motorized trails, and (8) improving Trail #113 in the Packsaddle Inventoried Roadless Area.

The Sandpoint Ranger District of the Idaho Panhandle National Forests in Bonner County, Idaho will administer these activities. The EIS will tier to the Idaho Panhandle National Forests Plan (September 1987).

DATES: Comments should be postmarked within 30 days after publication of this notice. Please include your name and address and the name of the project you are commenting on.

ADDRESSES: Submit written comments and suggestions on the proposed management activities or request to be placed on the project mailing list by writing to: Chloride Bush Project, Attn: A.J. Helgenberg, Sandpoint Ranger District, 1500 Hwy 2, Suite 110, Sandpoint, ID 83864.

FOR FURTHER INFORMATION CONTACT: A.J. Helgenberg, Project Team Leader, Sandpoint Ranger District at 208-265-6643 or by e-mail at ajhelgenberg@fs.fed.us.

Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. For persons requesting such confidentiality; it may be granted in only very limited circumstances, such as to protect trade secrets. The Forest Service will inform the requester of the agency's decision regarding the request for confidentiality, and where the request is denied, the agency will return the submission and notify the requester that the comments may be resubmitted with or without name and address within 10 days.

SUPPLEMENTARY INFORMATION: More information about the Chloride Bush Project can be found on the Internet at www.fs.fed.us/ipnf/eco/manage/nepa/index.html. The legal description for the project area includes all or portions of sections 1-3, 10-16, 20-29, and 34-36 in Township 53 North; Range 1 West and section 18 in Township 53 North; Range 1 East.

The Forest Service will be preparing an environmental impact statement for the following proposed activities and alternative courses of action based on public comments. To improve the health of aquatic habitats, 10.4 miles of existing classified roads would be decommissioned, 7.1 miles of overgrown, undrivable roads would be taken off transportation system maps, 5.0 miles of road would be placed into storage and 4.8 miles of road would be upgraded. To achieve vegetation management objectives, helicopter and road-based logging systems, prescribed burning and reforestation would be used. Additionally, several short logging spurs totaling 1.8 miles would be constructed to access stands for treatment using road-based logging systems. Of the 9,413 acres in the project area, 860 acres would be selectively cut, and 1,637 acres would be regenerated. Prescribed fire would be used on regenerated areas, selectively cut dry sites (423 acres), and to maintain old growth ponderosa pine stands and shrub fields (145 acres). Regenerated areas would be reforested with larch, white pine and ponderosa pine seedlings. Motorized recreation opportunities would be managed by converting 3.3 miles of road to motorized trail, and upgrading 5.0 miles of an existing motorized trail. Preliminary issues identified relate to the effects of roads and road construction on sediment, water yield, fish habitat, noxious weed spread, motorized access, and wildlife security, the effects of logging and creating openings on water yield, fish and wildlife habitat and wildlife security, and the effects of road decommissioning on private land access and ability to manage forest vegetation. Current alternatives consist of the proposed action and no action.

Two periods are specifically designated for comments on this analysis: (1) During the scoping period which is 30 days from the date of this notice in the Federal Register and (2) during the draft EIS comment period. In accordance with 36 CFR 215.5, as published in the Federal Register, Volume 68 No. 107, June 4, 2003, the draft EIS comment period will be the designated time in which “substantive” comments will be considered. The mailing list for this project will include those individuals who have expressed interest in this project as well as adjacent landowners and those responding to this NOI or to the Idaho Panhandle National Forests Quarterly Schedule of Proposed Actions. In addition, the public is encouraged to contact or visit with Forest Service officials during the analysis and prior to the decision. The Forest Service will continue to seek information, comments, and assistance from Federal, Tribal, State, and local agencies and other individuals or organizations that may be interested in or affected by the proposed actions. The United States Fish and Wildlife Service will be consulted concerning any effects to threatened and endangered species. The agency invites written comments and suggestions on this action, particularly in terms of identification of issues and alternative development.

Comments from the public and other agencies will be used in preparation of the Draft EIS to identify potential issues and concerns, potential alternatives to the proposed action and to promote communications with members of the public or other agencies. The draft environmental impact statement (DEIS) will be filed with the Environmental Protection Agency (EPA) and made available for public review in spring of 2004. The final environmental impact statement is expected to be completed in fall of 2004. The comment period on the draft environmental impact statement will be 45 days from the date the Environmental Protection Agency publishes the notice of availability in the Federal Register.

The Forest Service believes, at this early stage, it is important to give reviewers notice of several court rulings related to public participation in the environment review process. First, reviewers of draft environmental impact statements must structure their participation in the environmental review of the proposal so that it is meaningful and alerts and agency to the reviewer's position and contentions. Vermont Yankee Nuclear Power Corp. v. NRDC, 435 U.S. 519, 553 (1978). Also, environmental objections that could be raised at the draft environmental statement stage but that are not raised until after completion of the final environmental statement may be waived or dismissed by the courts. City of Angoon v. Hodel, 803 F 2d 1016, 1022 (9th Cir. 1986) and Wisconsin heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues related to the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The United States Department of Agriculture (USDA) prohibits discrimination in its programs on the basis of race, color, national origin, sex, religion, age, disability, political beliefs, and marital or familial status. (Not all prohibited bases apply to all programs.) Persons with disabilities who require alternative means of communication of program information (braille, large print, audiotape, etc.) should contact USDA's TARGET Center at (202) 720-2600 (voice and TDD). To file a complaint, write the Secretary of Agriculture, U.S. Department of Agriculture, Washington, DC 20250, or call 1-800-245-6340 (voice) or 202-720-1127 (TDD). USDA is an equal employment opportunity employer.

The Idaho Panhandle National Forests Supervisor is the Deciding Officer on this project. The decision will be made after considering comments and responses, environmental consequences discussed in the Final EIS, and applicable laws, regulations and policies. The decision and supporting reasons will be documented in a Record of Decision upon release of the Final EIS.

Dated: October 16, 2003.
Ranotta K. McNair,
Forest Supervisor, Idaho Panhandle National Forests.

[FR Doc. 03-26722 Filed 10-22-03; 8:45 am]

BILLING CODE 3410-11-M